DEPARTMENT OF ENERGY

Federal Energy Regulatory Commission

Combined Notice of Filings #1

Take notice that the Commission received the following exempt wholesale generator filings:

Docket Numbers: EG15-38-000.

Applicants: Joliet Battery Storage LLC.

Description: Notice of Self-Certification of Exempt Wholesale Generator Status of Joliet Battery Storage LLC.

Filed Date: 1/8/15.

Accession Number: 20150108-5156.

Comments Due: 5 p.m. ET 1/29/15.

Docket Numbers: EG15-39-000.

Applicants: West Chicago Battery Storage LLC.

Description: Notice of Self-Certification of Exempt Wholesale Generator Status of West Chicago Battery Storage LLC.

Filed Date: 1/8/15.

Accession Number: 20150108-5155.

Comments Due: 5 p.m. ET 1/29/15.

Docket Numbers: EG15-40-000.

Applicants: Baffin Wind LLC..

Description: Self-Certification of EWG of Baffin Wind LLC.

Filed Date: 1/8/15.

Accession Number: 20150108-5215.

Comments Due: 5 p.m. ET 1/29/15.

Take notice that the Commission received the following electric rate filings:

Docket Numbers: ER13-1139-009; ER14-2630-002.

Applicants: Imperial Valley Solar 1, LLC, Regulus Solar, LLC.

Description: Notification of Non-Material Change in Status of Imperial Valley Solar 1, LLC and Regulus Solar, LLC.

Filed Date: 1/8/15.

Accession Number: 20150108-5086.

Comments Due: 5 p.m. ET 1/29/15.

Docket Numbers: ER14-1969-005.

Applicants: Public Service Company of Colorado.

Description: Compliance filing per 35: 2014-1-8 PSCo Wind Int Comp ER14-1969-004 Errata.pdf to be effective 1/1/2015.

Filed Date: 1/8/15.

Accession Number: 20150108-5085.

Comments Due: 5 p.m. ET 1/29/15.

Docket Numbers: ER15-486-001.

Applicants: Peninsula Power, LLC.

Description: Tariff Amendment per 35.17(b): Peninsula Power, LLC (FERC Electric Tariff) to be effective 1/1/2015.

Filed Date: 1/8/15.

Accession Number: 20150108-5068.

Comments Due: 5 p.m. ET 1/29/15.

Docket Numbers: ER15-830-000.

Applicants: Southwest Power Pool, Inc.

Description: § 205(d) rate filing per 35.13(a)(2)(iii): 2987 Associated Electric/PSC of OK/KAMO Electric Inter. Agreement to be effective 12/31/9998.

Filed Date: 1/8/15.

Accession Number: 20150108-5040.

Comments Due: 5 p.m. ET 1/29/15.

Docket Numbers: ER15-831-000.

Applicants: Consolidated Edison Company of New York.

Description: § 205(d) rate filing per 35.13(a)(1): PASNY BQDM to be effective 1/9/2015.

Filed Date: 1/8/15.

Accession Number: 20150108-5043.

Comments Due: 5 p.m. ET 1/29/15.

Docket Numbers: ER15-832-000.

Applicants: PJM Interconnection, L.L.C.

Description: § 205(d) rate filing per 35.13(a)(2)(iii): Service Agreement No. 1727; Queue No. Z1-097 to be effective 12/9/2014.

Filed Date: 1/8/15.

Accession Number: 20150108-5050.

Comments Due: 5 p.m. ET 1/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2015.
Nathaniel J. Davis, Sr.,
Deputy Secretary.

[FR Doc. 2015-00521 Filed 1-14-15; 8:45 am]

BILLING CODE 6717-01-P